DEPARTMENT OF TRANSPORTATION

Federal Aviation Administration

Public Notice for a Change in Use of Aeronautical Property and Long-Term Lease Approval at Harrisburg International Airport (MDT), Middletown, PA

AGENCY: Federal Aviation Administration (FAA), DOT.

ACTION: Notice request for public comment.

SUMMARY: The Federal Aviation Administration (FAA) is requesting public comment on the Susquehanna Area Regional Airport Authority's (SARAA) request to change 7.18 acres of airport property from aeronautical use to non-aeronautical use. The acreage in question is subject to the Provisions of the Federal Property and Administrative Services Act of 1949, and the Surplus Property Act of 1944 as amended. In accordance with 49 U.S.C. 47151(d), 47153(c), and 47107(h), this notice is required to be published in the Federal Register 30 days before waiving the condition that such land be used for aeronautical purposes. The purpose of the release request is to enable SARAA to generate revenue from this property by taking action including, but not limited to, entering into a long-term lease agreement with UPS for the purpose of constructing and operating a mobile distribution facility.

DATES: Comments must be received on or before June 10, 2016.

ADDRESSES: Documents are available for review at the Susquehanna Area Regional Airport Authority Office located at Harrisburg International Airport:

Timothy Edwards, Executive Director,

Harrisburg International Airport,

Susquehanna Area Regional Airport Authority,

One Terminal Drive,

Suite 300,

Middletown, PA 17057,

717-948-3900.

and at the FAA Harrisburg Airports District Office:

Oscar D. Sanchez, Program Manager,

Harrisburg Airports District Office,

3905 Hartzdale Dr., Suite 508,

Camp Hill, PA 17011,

(717) 730-2834.

FOR FURTHER INFORMATION CONTACT: Oscar D. Sanchez, Program Manager, Harrisburg Airports District Office (location listed above).

SUPPLEMENTARY INFORMATION: The FAA invites public comment on the request to re-designate current aeronautical property at the Harrisburg International Airport as available for non-aeronautical use under the provisions of Section 47125(a) of Title 49 U.S.C.

The following is a brief overview of the request:

This action will allow the re-designation of the 7.18 acres as non-aeronautical use on the Airport Layout Plan (ALP). The purpose of the release request is that SARAA has determined that it is in its best interest to encourage development of land not needed for airport development on the approved ALP to increase airport revenues. Consistent with this purpose, this release request will enable SARAA to enter into a lease agreement with UPS for the purpose of constructing and operating a mobile distribution facility. There is to be no sale or transfer of property rights in connection with this Airport Layout Plan change. Proceeds from the lease of this property will be utilized in accordance with FAA's Policy and Procedures Concerning the Use of Airport Revenue, published in the Federal Register on February 16, 1999.

MDT, including the 7.18 acres that are the subject of this release request, was the former Olmsted Air Force Base. On June 20, 1967, under the provisions of the Federal Property and Administrative Services Act of 1949, and the Surplus Property Act of 1944, as amended, the Air Force ceded Olmsted Air Force Base to the Commonwealth of Pennsylvania for the purpose that it be utilized as an airport. This land was conveyed to SARAA by the Commonwealth of Pennsylvania through its Department of Transportation by a deed dated 01/02/1998 and recorded in Dauphin County, Pennsylvania book 3008, page 425. On April 21, 2016, the Department of Defense concurred with the decision to release the National Emergency Use Provision on the 7.18 acres.

The 7.18 acres is located on the landside of the airport in a central area in close proximity to Airport Drive, and the long-term parking area. To the north, the area is bordered by Airport Drive, Amtrak Railroad, and Route 230. To the south of the area lies the Pennsylvania Air National Guard (PANG) 193rd Special Operations Wing Complex. The subject parcel is defined as Dauphin County tax identification Parcel 36-024-001. The property is currently depicted on the approved ALP on record as airport property and consists of asphalt pavement that is currently used as an overflow long-term vehicle parking lot. MDT has sufficient parking space available to accommodate existing and future anticipated needs. This parcel is not needed for future aeronautical development as shown on the airport's ALP.

Any person may inspect the request by appointment at the FAA office address listed above. Interested persons are invited to comment. All comments will be considered by the FAA to the extent practicable.

Issued in Camp Hill, Pennsylvania, May 4, 2016.
Lori K. Pagnanelli,
Manager, Harrisburg Airports District Office.

[FR Doc. 2016-11118 Filed 5-10-16; 8:45 am]

BILLING CODE 4910-13-P